DEPARTMENT OF LABOR

Employment and Training Administration

[TA-W-54,043]

Ramseur Interlock Knitting Company, Inc., Ramseur, NC; Notice of Revised Determination On Reopening

On February 26, 2004, the Department, on its own motion, reopened its investigation for the former workers of the subject firm.

The initial investigation was initiated on January 20, 2004, and resulted in a negative determination issued on February 11, 2004. The investigation findings showed that the company did not shift production to a foreign country, nor did the company or customers increase imports of knitted apparel fabrics. Consequently, the Department issued a negative determination of eligibility to apply for trade adjustment assistance (TAA) and alternative trade adjustment assistance (ATAA). The notice was signed on February 11, 2004, and will soon be published in the Federal Register.

The Department has obtained new information showing that the subject firm lost a significant amount of business with apparel manufacturers whose workers were certified eligible for TAA, and the loss of business contributed importantly to worker separations at the Ramseur, North Carolina plant.

Furthermore, the Department has determined in this case that the requirements of section 246 have been met.

A significant number of workers at the firm are age 50 or over and possess skills that are not easily transferable. Competitive conditions within the industry are adverse.

Conclusion

After careful consideration of the facts obtained on reopening, I determine that workers of Ramseur Interlock Knitting Company, Inc., Ramseur, North Carolina, qualify as adversely affected secondary workers under section 222 of the Trade Act of 1974.

In accordance with the provisions of the Act, I make the following revised determination:

All workers of Ramseur Interlock Knitting Company, Inc., Ramseur, North Carolina, who became totally or partially separated from employment on or after January 15, 2003, through two years from the date of certification, are eligible to apply for adjustment assistance under section 223 of the Trade Act of 1974, and are also eligible to apply for alternative trade adjustment assistance under section 246 of the Trade Act of 1974, as amended.

Signed in Washington, DC, this 27th day of February 2004.
Linda G. Poole,
Certifying Officer, Division of Trade Adjustment Assistance.

[FR Doc. 04-5606 Filed 3-11-04; 8:45 am]

BILLING CODE 4510-30-P